ENVIRONMENTAL PROTECTION AGENCY

40 CFR Part 52

[KY-131, and KY-133-200201; FRL-7083-1a]

Approval and Promulgation of Air Quality Implementation Plans; Kentucky: Approval of Revisions to State Implementation Plan, Source Specific Requirements, and Nonregulatory Provisions

AGENCY: Environmental Protection Agency (EPA).

ACTION: Final rule.

SUMMARY: EPA is approving revisions to the Kentucky State Implementation Plan (SIP) which concern the control of emissions of volatile organic compounds (VOC) at a specific source in Bullitt County, Kentucky (Publisher's Printing, Inc.), and Regulation 6.49 adopted by the Air Pollution Control District of Jefferson County (APCDJC), Kentucky. Regulation 6.49 specifies reasonably available control technology (RACT) control requirements for VOC emissions at Reactor Processes and Distillation Operations Processes in the Synthetic Organic Chemical Manufacturing Industry (SOCMI). In addition, EPA is approving negative declarations from Kentucky and from the APCDJC for certain categories of sources subject to Control Techniques Guidelines (CTGs).

EFFECTIVE DATE: This final rule is effective on November 23, 2001.

ADDRESSES: Copies of documents relative to this action are available at the following addresses for inspection during normal business hours. People who want to examine these documents should make an appointment at least 24 hours in advance of the day they want to visit and they should reference files KY-127 and KY-128.

U.S. Environmental Protection Agency—Region 4, Air Planning Branch, Regulatory Development Section, 61 Forsyth Street, SW., Atlanta, Georgia 30303; Commonwealth of Kentucky, Division for Air Quality, 803 Schenkel Lane, Frankfort, Kentucky 40601-1403; Air Pollution Control District of Jefferson County, 850 Barret Avenue, Louisville, Kentucky 40204.

FOR FURTHER INFORMATION CONTACT: Raymond S. Gregory, Environmental Engineer, Regulatory Development Section, Air Planning Branch, U.S. Environmental Protection Agency, Region 4, 61 Forsyth Street, SW., Atlanta, Georgia 30303, (404) 562-9116. Mr. Gregory can also be reached via electronic mail at gregory.ray@epa.gov.

SUPPLEMENTARY INFORMATION:

Table of Contents

I. Background

II. Final Action

III. Administrative Requirements

I. Background

Under the Clean Air Act (CAA) section 107(d)(4)(A), on November 6, 1991 (56 FR 56694), all of Jefferson County, portions of Bullitt and Oldham Counties in Kentucky, and the Indiana Counties of Clark and Floyd were designated as the Louisville moderate ozone nonattainment area, as a result of monitored violations of the 1-hour ozone National Ambient Air Quality Standard (NAAQS) during the 1987-1989 time frame. Since that time, Kentucky, Indiana and the APCDJC have adopted and implemented programs required under the CAA for a moderate 1-hour ozone nonattainment area to reduce emissions of VOC and NOX which are precursors of ozone.

Since the Louisville area was classified as moderate ozone nonattainment, in order to be redesignated, the Louisville area is required to meet the applicable CAA requirements of subpart 2 of part D including RACT requirements for three classes of VOC sources (section 182(b)(2)). The categories are: (A) All sources covered by a CTG document issued between November 15, 1990, and the date of attainment; (B) all sources covered by a CTG issued prior to November 15, 1990; and (C) all other major non-CTG stationary sources of VOCs.

EPA is approving a source-specific non-CTG VOC RACT determination for Publisher's Printing, Inc., submitted on July 3, 2001, by Kentucky as one of the requisites (182(b)(2)(C)) for redesignation of the Kentucky portion of the Louisville 1-hour ozone nonattainment area.

Kentucky submitted a negative declaration on December 14, 1999, for the CTG categories of aerospace, SOCMI, shipbuilding, and wood furniture manufacturing which would apply to the nonattainment portions of Oldham and Bullitt Counties. The APCDJC submitted a negative declaration for Jefferson County for the same four CTG categories on February 26, 2001. The APCDJC withdrew the negative declaration for the SOCMI category on May 1, 2001. EPA is approving the negative declaration from Kentucky (CTG categories of aerospace, SOCMI, shipbuilding, and wood furniture manufacturing), and the negative declaration from the APCDJC (CTG categories of aerospace, shipbuilding, and wood furniture manufacturing). These negative declarations partially fulfill the CAA requirements under 182(b)(2)(A) in the Kentucky portion of the Louisville 1-hour ozone nonattainment area.

APCDJC adopted Regulation 6.49 for control of VOCs from SOCMI sources and Kentucky submitted APCDJC's Regulation 6.49 on July 18, 2001. Final approval of Regulation 6.49 completes the CAA requirement relative to the Kentucky portion of the Louisville 1-hour ozone nonattainment area for 182(b)(2)(A) and is also a requisite to redesignation of the Louisville area.

On July 23, 2001, (66 FR 38229) EPA published a notice of proposed rulemaking (NPR) proposing to approve the above revisions and negative declarations. That NPR provided for a public comment period ending on August 22, 2001. A detailed description of the SIP revisions and EPA's rationale for approving them and the negative declarations was provided in the proposed rule and will not be restated here. No comments were received on EPA's proposal.

II. Final Action

In today's action, the EPA is approving SIP revisions submitted by Kentucky to address outstanding VOC RACT requirements of subpart 2 of Part D, in particular section 182(b)(2), of the CAA. The SIP revisions EPA is approving are VOC RACT requirements for sources subject to the SOCMI CTG for Jefferson County (Regulation 6.49), and source specific VOC RACT requirements for Publisher's Printing, Inc., in Bullitt County, Kentucky. EPA's review of Regulation 6.49 found it to follow the CTG model regulation. EPA found that the VOC RACT requirements specified by Kentucky for Publisher's Printing, Inc., follow the requirements in EPA's September 1993 draft, “Guideline Series—Control of Volatile Organic Compound Emissions from Offset Lithographic Printing” and EPA's June 1994, “Alternative Control Techniques Document: Offset Lithographic Printing” and are approvable as meeting section 182(b)(2)(C) requirements for Publisher's Printing, Inc. Kentucky submitted the title V permit for Publisher's Printing, Inc., as a source-specific SIP revision.

EPA is approving the negative declaration from Kentucky for the CTG categories of aerospace, SOCMI, shipbuilding, and wood furniture manufacturing, and the negative declaration from the APCDJC for the CTG categories of aerospace, shipbuilding, and wood furniture manufacturing as meeting the section 182(b) VOC RACT requirement for these source categories in the Kentucky portion of the Louisville 1-hour ozone nonattainment area.

The EPA has reviewed Kentucky's requested revisions of the federally-approved SIP for conformance with the provisions of the 1990 amendments enacted on November 15, 1990. The Agency has determined that this action conforms with those requirements.

Nothing in this action should be construed as permitting or allowing or establishing a precedent for any future implementation plan. Each request for revision to the SIP shall be considered separately in light of specific technical, economic, and environmental factors and in relation to the relevant statutory and regulatory requirements.

III. Administrative Requirements

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Public Law 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the CAA. This rule also is not subject to Executive Order 13045 “Protection of Children from Environmental Health Risks and Safety Risks” (62 FR 19885, April 23, 1997), because it is not economically significant.

In reviewing SIP submissions, EPA's role is to approve state choices, provided that they meet the criteria of the CAA. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the CAA. Thus, the requirements of section 12(d) of the National Technology Transfer and Advancement Act of 1995 (15 U.S.C. 272 note) do not apply. This rule does not impose an information collection burden under the provisions of the Paperwork Reduction Act of 1995 (44 U.S.C. 3501 et seq.).

The Congressional Review Act, 5 U.S.C. section 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. section 804(2).

Under section 307(b)(1) of the CAA, petitions for judicial review of this action must be filed in the United States Court of Appeals for the appropriate circuit by December 24, 2001. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Intergovernmental relations, Ozone, Reporting and recordkeeping requirements, Volatile organic compounds.

Dated: September 18, 2001.
A. Stanley Meiburg,
Acting Regional Administrator, Region 4.

Chapter I, title 40, Code of Federal Regulations, is amended as follows:

PART 52—[AMENDED]

1. The authority citation for part 52 continues to read as follows:

Authority: 42 U.S.C. 7401 et seq.

Subpart S—Kentucky

2. Section 52.920 is amended:

a. By adding a new entry in numerical order to the last table in paragraph (c).

b. By adding a new entry to the end of the table in paragraph (d).

c. By adding new entries in numerical order to the table in paragraph (e).

The additions read as follows:

§ 52.920 Identification of plan.

* * * * *

(c) EPA-approved regulations.

* * * * *

EPA-Approved Jefferson County Regulations for Kentucky
Reg | Title/subject | EPA approval date | Federal Register Notice | District effective date
* * * * * * *
Reg 6 Standards of Performance for Existing Affected Facilities
* * * * * * *
6.49 | Standards of Performance for Reactor Processes and Distillation Operations Processes in the Synthetic Organic Chemical Manufacturing Industry | 10/23/01 | 66 FR 53664 | 06/20/01
* * * * * * *

(d) EPA-approved source-specific requirements.

* * * * *

EPA-Approved Kentucky Source-Specific Requirements
Name of source | Permit number | State effective date | EPA approval date | Federal Register Notice
* * * * * * *
Title V permit requiring VOC RACT for Publisher's Printing, Inc., Bullitt County | KDEPDAQ Permit 21-029-00019 | 07/20/01 | 10/23/01 | 66 FR 53664

(e) EPA-approved nonregulatory provisions.

EPA-Approved Kentucky Nonregulatory Provisions
Appendix | Title/subject | State effective date | EPA approval date | Federal Register Notice
* * * * * * *
21 | Negative Declarations for the nonattainment portions of Bullitt and Oldham Counties in Louisville 1-hour moderate ozone nonattainment area for CTG rules for aerospace, SOCMI, shipbuilding, and wood furniture manufacturing | 12/14/99 | 10/23/01 | 66 FR 53665
22 | Negative Declarations submitted by the Air Pollution Control District of Jefferson County for the Louisville 1-hour moderate ozone nonattainment area for CTG rules for aerospace, shipbuilding, and wood furniture manufacturing | 02/26/01 | 10/23/01 | 66 FR 53665

[FR Doc. 01-25893 Filed 10-22-01; 8:45 am]

BILLING CODE 6560-50-P